DEPARTMENT OF DEFENSE

Office of the Secretary

[Transmittal No. 23-64]

Arms Sales Notification

AGENCY: Defense Security Cooperation Agency, Department of Defense (DoD).

ACTION: Arms sales notice.

SUMMARY: The is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-64, Policy Justification, and Sensitivity of Technology.

Dated: November 1, 2024.
Stephanie J. Bost,
Alternate OSD Federal Register Liaison Officer, Department of Defense.

BILLING CODE 6001-FR-P

BILLING CODE 6001-FR-C

Transmittal No. 23-64

Notice of Proposed Issuance of Letter of Offer Pursuant to Section 36(b)(1) of the Arms Export Control Act, as amended

(i) Prospective Purchaser: Government of Poland

(ii) Total Estimated Value:

Major Defense Equipment * | $1.5 billion
Other | $2.5 billion
TOTAL | $4.0 billion

Funding Source: National Funds

(iii) Description and Quantity or Quantities of Articles or Services under Consideration for Purchase: The Government of Poland has requested to buy phase two of a two-phase program for an Integrated Air and Missile Defense (IAMD) Battle Command System (IBCS) enabled PATRIOT Configuration-3+ with modernized sensors and components, including:

Major Defense Equipment (MDE):

Ninety-three (93) Integrated Air and Missile Defense (IAMD) Battle Command System (IBCS) Engagement Operation Centers (EOCs)

One hundred seventy-five (175) IBCS Integrated Fire Control Network (IFCN) Relays

Non-MDE:

Also included are network encryptors; IBCS software development and component integration; U.S. Government and contractor technical support; System Integration Lab (SIL) infrastructure; SIL test tools and equipment; U.S. Government and contractor technical support for SIL; flight test infrastructure and equipment; flight test targets; flight test range costs and fees; U.S. Government and Original Equipment Manufacturer (OEM) flight test services and support; and other related elements of logistics and program support.

(iv) Military Department: Army (PL-B-UEN)

(v) Prior Related Cases, if any: PL-B-UCJ, PL-B-UEK, PL-B-UEL, PL-B-UEM

(vi) Sales Commission, Fee, etc., Paid, Offered, or Agreed to be Paid: None

(vii) Sensitivity of Technology Contained in the Defense Article or Defense Services Proposed to be Sold: See Attached Annex

(viii) Date Report Delivered to Congress: September 11, 2023

* As defined in Section 47(6) of the Arms Export Control Act.

POLICY JUSTIFICATION

Poland—Integrated Air and Missile Defense (IAMD) Battle Command System (IBCS)

The Government of Poland has requested to buy phase two of a two-phase program for an Integrated Air and Missile Defense (IAMD) Battle Command System (IBCS) enabled PATRIOT Configuration-3+ with modernized sensors and components; the sale includes ninety-three (93) Integrated Air and Missile Defense (IAMD) Battle Command System (IBCS) Engagement Operation Centers (EOCs) and one hundred seventy-five (175) IBCS Integrated Fire Control Network (IFCN) relays. Also included are network encryptors; IBCS software development and component integration; U.S. Government and contractor technical support; System Integration Lab (SIL) infrastructure; SIL test tools and equipment; U.S. Government and contractor technical support for SIL; flight test infrastructure and equipment; flight test targets; flight test range costs and fees; U.S. Government and Original Equipment Manufacturer (OEM) flight test services and support; and other related elements of logistics and program support. The total estimated program cost is $4.0 billion.

This proposed sale will support the foreign policy goals and national security objectives of the United States by improving the security of a North Atlantic Treaty Organization Ally that is a force for political stability and economic progress in Europe.

The proposed sale will improve Poland's missile defense capability and contribute to Poland's goal of updating its military capability while further enhancing interoperability with the United States and other allies. Poland will have no difficulty absorbing this equipment into its armed forces.

The proposed sale of this equipment and support will not alter the basic military balance in the region.

The principal contractor will be Northrup Grumman, Huntsville, AL. The purchaser has requested offsets. Any offset agreement will be defined in negotiations between the purchaser and the contractor(s).

Implementation of this proposed sale will require approximately forty (40) U.S. Government and/or forty-five (45) contractor representatives to travel to Poland for an extended period for equipment deprocessing and fielding, system checkout, training, and technical and logistics support.

There will be no adverse impact on U.S. defense readiness as a result of this proposed sale.

Transmittal No. 23-64

Notice of Proposed Issuance of Letter of Offer Pursuant to Section 36(b)(1) of the Arms Export Control Act

Annex

Item No. vii

(vii) Sensitivity of Technology:

1. The Integrated Air and Missile Defense (IAMD) Battle Command System (IBCS) is the centerpiece of the U.S. Army's modernization strategy for air and missile defense capability. The system's resilient, open, modular, scalable architecture is foundational to deploying a truly integrated network of all available assets in the battlespace, regardless of source, service, or domain. IBCS enables the efficient and affordable integration of current and future systems, including assets deployed over IP-enabled networks, counter-unmanned aerial systems (UAS), 4th and 5th-generation aircraft, space-based sensors, and more. It senses, identifies, tracks, and defeats evolving air and missile threats, enabling revolutionary “multi-domain, any sensor, best effector” operations.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that the Government of Poland can provide substantially the same degree of protection for the sensitive technology being released as the U.S. Government. This sale is necessary in furtherance of the U.S. foreign policy and national security objectives outlined in the Policy Justification.

5. All defense articles and services listed in this transmittal have been authorized for release and export to the Government of Poland.

[FR Doc. 2024-25766 Filed 11-5-24; 8:45 am]

BILLING CODE 6001-FR-P